DEPARTMENT OF TRANSPORTATION

Federal Aviation Administration

Notice of Intent To Release Certain Properties From All Terms, Conditions, Reservations and Restrictions of a Quitclaim Deed Agreement Between City of Leesburg and the Federal Aviation Administration for the Leesburg International Airport, Leesburg, FL

AGENCY: Federal Aviation Administration (FAA), DOT.

ACTION: Request for public comment.

SUMMARY: The FAA hereby provides notice of intent to release certain airport properties 7.28 acres at the Leesburg International Airport, Leesburg, FL from the conditions, reservations, and restrictions as contained in a Quitclaim Deed agreement between the FAA and the City of Leesburg, dated March 23, 1948. The release of property will allow the City of Leesburg to dispose of the property for other than aeronautical purposes. The property is located north of the airport, across U.S. Highway 441. The parcel is currently designated Non Aeronautical Use. The property will be released of its federal obligations for Commercial Use. The fair market value of this parcel has been determined to be $2,200,000.

Documents reflecting the Sponsor's request are available, by appointment only, for inspection at the Leesburg International Airport and the FAA Airports District Office.

DATES: Comments are due on or before March 29, 2018.

ADDRESSES: Documents are available for review at Leesburg International Airport, and the FAA Airports District Office, 8427 South Park Circle, Suite 524, Orlando, FL 32819. Written comments on the Sponsor's request must be delivered or mailed to: Jennifer Ganley, Program Manager, Orlando Airports District Office, 8427 South Park Circle, Suite 524, Orlando, FL 32819.

FOR FURTHER INFORMATION CONTACT: Jennifer Ganley, Program Manager, Orlando Airports District Office, 8427 South Park Circle, Suite 524, Orlando, FL 32819.

SUPPLEMENTARY INFORMATION:

Section 125 of The Wendell H. Ford Aviation Investment and Reform Act for the 21st Century (AIR-21) requires the FAA to provide an opportunity for public notice and comment prior to the “waiver” or “modification” of a sponsor's Federal obligation to use certain airport land for non-aeronautical purposes.

Bart Vernace,
Manager, Orlando Airports District Office, Revision Date 11/22/00.

[FR Doc. 2018-03953 Filed 2-26-18; 8:45 am]

BILLING CODE 4910-13-P